DEPARTMENT OF TRANSPORTATION

[Docket No. DOT-OST-2022-0082]

Agency Information Collection Activities: Technical Assistance PRA; Emergency Approval

AGENCY: Office of the Secretary (OST), Department of Transportation (DOT).

ACTION: Emergency clearance notice and request for comments.

SUMMARY: The Office of the Secretary (OST), Department of Transportation (DOT) invites public comments about our intention to request the Office of Management and Budget's (OMB) approval for an emergency approval of a proposed information collection, for the DOT Technical Assistance PRA, which is summarized below under Supplementary Information. We are required to publish this notice in the Federal Register by the Paperwork Reduction Act of 1995.

DATES: Please submit comments by August 29, 2022.

ADDRESSES: You may send comments within 10 days to the Office of Information and Regulatory Affairs, Office of Management and Budget, 725 17th Street NW, Washington, DC 20503, Attention DOT Desk Officer. All comments received are part of the public record. Comments will generally be posted without change. All comments should include the Docket number DOT-OST-2022-0082.

FOR FURTHER INFORMATION CONTACT: Please email ThrivingCommunities@dot.gov or contact Victor Austin at 202-366-2996. Office hours are from 8 a.m. to 5 p.m. EDT, Monday through Friday, except for Federal holidays.

SUPPLEMENTARY INFORMATION:

Title: DOT Technical Assistance PRA.

Background: Bipartisan Infrastructure Law (BIL) enacted as the Infrastructure Investment and Jobs Act (IIJA) (H.R. 3684, Pub. L. 117-58, also known as the Bipartisan Infrastructure Law or BIL) created several new programs at the US Department of Transportation (DOT) that allow local governments, non-profit organizations, tribal governments, and other political subdivisions of state or local governments to apply directly for DOT discretionary grant funding. In response to President Biden's Executive Order 13985, Advancing Racial Equity and Support for Underserved Communities Through the Federal Government and Executive Order 14008, Tackling the Climate Crisis at Home and Abroad. DOT has included criteria in its notices of funding opportunity to prioritize the needs of disadvantaged communities for many of these new programs.

The Thriving Communities Initiative will include programs by which DOT will utilize cooperative agreements and procurements with technical assistance and capacity building providers to support communities seeking to advance transformative, equitable, and climate-friendly infrastructure projects that benefit disadvantaged communities. Specifically, these include the Thriving Communities program, the Rural and Tribal Infrastructure Assistance Pilot Program (see § 21205 of Pub. L. 117-58), and Asset Concession and Innovative Finance Assistance Program (see 23 U.S.C. 611 as amended by § 71001 of Pub. L. 117-58).

DOT will utilize a Letter of Interest (LOI) or using a simplified in-take form from communities interested in receiving technical assistance and capacity building through these programs. Technical assistance and capacity building is offered by the Government at no charge and with no required non-federal share.

Establishment of the program has two distinct tasks: (a) contracting of technical assistance advisors through a Notice of Funding Opportunity (NOFO) or existing procurement vehicles; and (b) recruitment of project sponsors who will receive technical assistance services. Responding to both will occur on a voluntary basis, utilizing an electronic platform.

For item A, eligible applicants to provide technical assistance through the Thriving Communities program will request cooperative agreement funding through an application process in response to a published NOFO. The application is planned as a one-time information collection. DOT estimates that it will take approximately 20 hours to complete the NOFO application process used to select capacity builders under the Thriving Communities program. DOT estimates the recipients of Thriving Communities program funding will spend another 4 hours, annually, submitting post-award reports. In addition, reporting requirements will be submitted by the select capacity building providers and technical assistance recipients during the implementation, and evaluation phases.

For the Rural and Tribal Infrastructure Assistance Pilot Program and Asset Concession and Innovative Finance Assistance Program, advisors and technical assistance providers will be contracted using existing procurement vehicles. Estimated time required for these programs will be 4 hours annually.

For item B, the intake form to be used by communities seeking technical assistance is estimated to take no more than 1 hour to complete. Recipients of technical assistance support are estimated to spend no more than 2 hours annually providing evaluation metrics.

Respondents to Item A (technical assistance providers): for-profit companies, non-profit organizations, or other technical assistance providers.

Respondents to Item B (requestors of technical assistance): philanthropic entities, non-profit organizations, other Federal agencies, state or local governments and their agencies, and Indian Tribes.

Frequency: Once a year.

Estimated Average Burden per Response: Approximately 24 hours for applicants to complete the application process and reporting requirements and an estimated 30 applicants. Approximately seven hours to complete the in-take form and evaluation metrics and an estimated 20 project sponsors.

Estimated Total Annual Burden Hours: Approximately 860 hours.

Public Comments Invited: You are asked to comment on any aspect of this information collection, including: (1) Whether the proposed collection is necessary for the DOT's performance; (2) the accuracy of the estimated burdens; (3) ways for the DOT to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; 23 U.S.C. 134 and 135; and 23 CFR chapter 1, subchapter E, part 450.

Dated: August 12, 2022.
Mariia Zimmerman,
Strategic Advisor for Technical Assistance and Community Solutions Office of the Secretary, U.S. Department of Transportation.

[FR Doc. 2022-17735 Filed 8-17-22; 8:45 am]

BILLING CODE 4910-9X-P